ENVIRONMENTAL PROTECTION AGENCY

[EPA-HQ-OPP-2021-0083; FRL-10022-58]

Pesticide Product Registration; Receipt of Applications for New Active Ingredients—April 2021

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before May 21, 2021.

ADDRESSES: Submit your comments, identified by docket identification (ID) number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave., NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets/about-epa-dockets.

FOR FURTHER INFORMATION CONTACT: Charles Smith, Biopesticides and Pollution Prevention Division (7511P), main telephone number: (703) 305-7090, email address: BPPDFRNotices@epa.gov. The mailing address for this contact person is: Office of Pesticide Programs, Environmental Protection Agency, 1200 Pennsylvania Ave. NW. Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (https://www.epa.gov/pesticide-registration/public-participation-process-registration-actions).

A. Notice of Receipt—New Active Ingredients

1. File Symbol: 2375-E. Docket ID number: EPA-HQ-OPP-2020-0734. Applicant: Chr. Hansen, Inc., 9015 W Maple St., Milwaukee, WI 53214. Product name: CH2970/CH3000. Active ingredients: Fungicide and nematicide—Bacillus paralicheniformis strain CH2970 at 20.0% and Bacillus subtilis strain CH3000 at 31.0%. Proposed use: Seed treatment and soil application.

2. File Symbol: 2375-E. Docket ID number: EPA-HQ-OPP-2020-0734. Applicant: Chr. Hansen, Inc., 9015 W Maple St., Milwaukee, WI 53214. Product name: CH3000. Active ingredient: Fungicide and nematicide—Bacillus subtilis strain CH3000 at 100.0%. Proposed use: For manufacturing use.

3. File Symbol: 2375-R. Docket ID number: EPA-HQ-OPP-2020-0734. Applicant: Chr. Hansen, Inc., 9015 W Maple St., Milwaukee, WI 53214. Product name: CH2970. Active ingredient: Fungicide and nematicide- Bacillus paralicheniformis strain CH2970 at 100.0%. Proposed use: For manufacturing use.

4. File Symbol: 29964-GR. Docket ID number: EPA-HQ-OPP-2021-0218. Applicant: Pioneer Hi-Bred International, Inc., 7100 NW 62nd Ave., P.O. Box 1000, Johnston, IA 50131-1000. Product name: DP915635 Maize. Active ingredient: Insecticide—Ophioglossum pendulum IPD079Ea insecticidal protein and the genetic material necessary for its production in corn event DP-915635-4 at <0.000046%. Proposed use: Plant-incorporated protectant.

5. File Symbol: 70506-GIT. Docket ID number: EPA-HQ-OPP-2021-0225. Applicant: UPL NA Inc., 630 Freedom Business Center, Suite 402, King of Prussia, PA 19406. Product name: G1957aa. Active ingredients: Biochemicals for tobacco sucker control—n—Nonanol (C9) at 16.2% and n-Undecanol (C11) at 32.4%. Proposed use: Biochemical spray.

6. File Symbols: 92188-R, 92188-E, 92188-G, 92188-U, 92188-L, 92188-A, and 92188-T. Docket ID number: EPA-HQ-OPP-2021-0226. Applicant: Elemental Enzymes Ag & Turf LLC, 1685 Galt Industrial Blvd., St. Louis, MO 63132. Product names: Vismax Tree & Vine, Fig22-Bt Peptide Technical, Vismax Spectrum, Vismax Row Crop, Vismax Injection, Vismax Specialty Crop, and Vismax Seed Treatment. Active ingredient: Biochemical plant regulator and local and systemic resistance inducer—Fig22-Bt Peptide at 0.012% (Vismax Tree & Vine, Vismax Spectrum, and Vismax Specialty Crop), at 70% (Fig22-Bt Peptide Technical), at 0.0020% (Vismax Row Crop), and at 0.0048% (Vismax Injection and Vismax Seed Treatment). Proposed use: Biochemical plant regulator and local and systemic resistance inducer for use on food and non-food crops and plants, for use as a seed treatment, and for manufacturing.

7. File Symbols: 94218-R and 94218-E. Docket ID number: EPA-HQ-OPP-2021-0219. Applicant: Biofungitek, S.L., c/o Compliance Services International, 7501 Bridgeport Way West, Lakewood, WA 94899. Product names: (0178) Thyme Oil, Red and NSTKI-014. Active ingredient: Biochemical fungicide—Thyme Oil at 100% (0178) Thyme Oil, Red) and 1.75% (NSTKI-014). Proposed use: Biochemical fungicide for use on agricultural crops, turf, and ornamentals.

8. File Symbol: 95220-E. Docket ID number: EPA-HQ-OPP-2021-0211. Applicant: Ag Chem Resources, LLC, 10120 Dutch Iris Dr., Bakersfield, CA 93311. Product name: AgChem1-EP1. Active ingredient: Nematicide—Extract of Caesalpinia spinosa at 99.1%. Proposed use: For use in or on raw agricultural products and food products.

9. File Symbol: 95220-R. Docket ID number: EPA-HQ-OPP-2021-0211. Applicant: Ag Chem Resources, LLC, 10120 Dutch Iris Dr., Bakersfield, CA 93311. Product name: AgChem1. Active ingredient: Nematicide—Extract of Caesalpinia spinosa at 99.1%. Proposed use: For manufacturing use.

Authority: 7 U.S.C. 136 et seq.

Dated: April 8, 2021.
Delores Barber,
Director, Information Technology and Resources Management Division, Office of Program Support.

[FR Doc. 2021-08256 Filed 4-20-21; 8:45 am]

BILLING CODE 6560-50-P